COMMISSION ON CIVIL RIGHTS

Agenda and Notice of Public Meeting of the Florida Advisory Committee

Notice is hereby given, pursuant to the provisions of the rules and regulations of the U.S. Commission on Civil Rights, that a conference call of the Florida Advisory Committee will convene at 2 p.m. EST and adjourn at 4 p.m. EST on Tuesday, February 13, 2007. The purpose of the conference call is to discuss plans for the Committee's upcoming briefing to be held in April 2007 on religious freedom for prisoners and the restoration of their voting rights.

This conference call is available to the public through the following call-in number: 866-393-1381. Any interested member of the public may call this number and listen to the meeting. Callers can expect to incur charges for calls not initiated using the supplied call-in number or over wireless lines and the Commission will not refund any incurred charges. Callers will incur no charge for calls using the call-in number over land-line connections. Persons with hearing impairments may also follow the proceedings by first calling the Federal Relay Service at 1-800-977-8339 and providing the Service with the conference call number.

To ensure that the Commission secures an appropriate number of lines for the public, persons are asked to register by contacting Peter Minarik, Southern Regional Office, at 404-562-7000, by Tuesday, February 6, 2007.

The meeting will be conducted pursuant to the provisions of the rules and regulations of the Commission.

Dated at Washington, DC, January 19, 2007.
Ivy L. Davis,
Acting Chief, Regional Programs Coordination Unit

[FR Doc. E7-979 Filed 1-23-07; 8:45 am]

BILLING CODE 6335-01-P